DEPARTMENT OF COMMERCE

International Trade Administration

[C-489-854]

Certain Brake Drums From the Republic of Türkiye: Final Affirmative Countervailing Duty Determination

AGENCY: Enforcement and Compliance, International Trade Administration, Department of Commerce.

SUMMARY: The U.S. Department of Commerce (Commerce) determines that countervailable subsidies are being provided to producers and exporters of certain brake drums from the Republic of Türkiye (Türkiye). The period of investigation is January 1, 2023, through December 31, 2023.

DATES: Applicable June 18, 2025.

FOR FURTHER INFORMATION CONTACT: Charles Doss or Kyle Clahane, AD/CVD Operations, Office III, Enforcement and Compliance, International Trade Administration, U.S. Department of Commerce, 1401 Constitution Avenue NW, Washington, DC 20230; telephone: (202) 482-4474 or (202) 482-5449, respectively.

SUPPLEMENTARY INFORMATION:

Background

On December 3, 2024, Commerce published its Preliminary Determination in the Federal Register and aligned this countervailing duty investigation with the final determination in the less-than-fair-value investigation of certain brake drums from Türkiye, in accordance with section 705(a)(1) of the Tariff Act of 1930, as amended (the Act) and 19 CFR 351.210(b)(4).¹ Commerce invited interested parties to comment on the Preliminary Determination.² On January 29, 2025, Commerce published the preliminary determination in the less-than-fair-value investigation of certain brake drums from Türkiye and postponed the deadline for the final determination.³ Consequently, the deadline for the final determination of this investigation is now June 13, 2025.

¹ See Certain Brake Drums from the Republic of Türkiye: Preliminary Affirmative Countervailing Duty Determination and Alignment of Final Determination with the Final Antidumping Duty Determination, 89 FR 95740 (December 3, 2024) (Preliminary Determination), and accompanying Preliminary Decision Memorandum (PDM).

² Id., 89 FR at 95742.

³ See Certain Brake Drums from the Republic of Türkiye: Preliminary Affirmative Determination of Sales at Less Than Fair Value, Postponement of Final Determination, and Extension of Provisional Measures, 90 FR 8377 (January 29, 2025).

A summary of the events that occurred since Commerce published the Preliminary Determination, as well as a full discussion of the issues raised by parties for this final determination, may be found in the Issues and Decision Memorandum.⁴ The Issues and Decision Memorandum is a public document and is made available to the public via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Determination in the Countervailing Duty Investigation of Certain Brake Drums from the Republic of Türkiye,” dated concurrently with, and hereby adopted by, this notice (Issues and Decision Memorandum).

Scope of the Investigation

The products covered by this investigation are certain brake drums from Türkiye. For a complete description of the scope of this investigation, see Appendix I.

Scope Comments

During the course of this investigation, Commerce received scope comments from interested parties. Commerce issued a Preliminary Scope Decision Memorandum to address these comments and set aside a period of time for parties to address scope issues in additional scope comments and in scope-specific case and rebuttal briefs.⁵ We received comments from parties on the Preliminary Scope Decision Memorandum, which we address in the Final Scope Decision Memorandum.⁶ We have included additional Harmonized Tariff Schedule of the United States (HTSUS) subheadings in the scope of the investigation from the scope published in the Preliminary Determination, as noted in Appendix I to this notice.

⁵ See Memorandum, “Less-Than-Fair-Value Investigations and Countervailing Duty Investigations of Certain Brake Drums from the People's Republic of China and the Republic of Türkiye: Preliminary Scope Decision Memorandum,” dated January 23, 2025.

⁶ See Memorandum, “Less-Than-Fair-Value Investigations and Countervailing Duty Investigations of Certain Brake Drums from the People's Republic of China and the Republic of Türkiye: Final Scope Decision Memorandum,” dated concurrently with this notice.

Verification

Consistent with section 782(i) of the Act, in January 2025, Commerce verified all information reported by the mandatory respondent, EKU Fren ve Dok. San. A.S. (EKU) and the Government of Türkiye (GOT). We used standard verification procedures, including an examination of relevant account records and original source documents provided by EKU and the GOT.⁷

⁷ See Memoranda, “Verification of the Questionnaire Responses of the Government of the Republic of Türkiye,” dated February 25, 2025; and “Verification of the Questionnaire Responses of EKU Fren ve Dok. San. A.S.,” dated March 6, 2025.

Analysis of Subsidy Programs and Comments Received

The subsidy programs under investigation, and the issues raised in the case and rebuttal briefs that were submitted by parties in this investigation, are discussed in the Issues and Decision Memorandum. For a list of the issues raised by interested parties and addressed in the Issues and Decision Memorandum, see Appendix II to this notice.

Changes Since the Preliminary Determination

Based on our analysis of the comments received from interested parties and our verification findings, we made certain changes to the subsidy rate calculations for EKU. For a discussion of these changes, see the Issues and Decision Memorandum.

Methodology

Commerce conducted this investigation in accordance with section 701 of the Act. For each of the subsidy programs found to be countervailable, Commerce determines that there is a subsidy, i.e., a financial contribution by an “authority” that gives rise to a benefit to the recipient, and that the subsidy is specific.⁸ For a full description of the methodology underlying our final determination, see the Issues and Decision Memorandum.

⁸ See sections 771(5)(B) and (D) of the Act regarding financial contribution; see also section 771(5)(E) of the Act regarding benefit; and section 771(5A) of the Act regarding specificity.

In making this final determination, Commerce relied, in part, on facts otherwise available, including with an adverse inference, pursuant to sections 776(a) and (b) of the Act. For a full discussion of our application of adverse facts available (AFA), see the Preliminary Determination PDM ⁹ and section “Use of Facts Otherwise Available and Application of Adverse Inferences” in the Issues and Decision Memorandum.

⁹ See Preliminary Determination PDM at 8-16.

All-Others Rate

Pursuant to section 705(c)(5)(A)(i) of the Act, Commerce will determine an all-others rate equal to the weighted-average countervailable subsidy rates established for exporters and/or producers individually examined, excluding any rates that are zero, de minimis, or rates based entirely under section 776 of the Act.

For this final determination, Commerce has calculated a rate for EKU that is above de minimis. Because the other rates we assigned are based entirely under section 776 of the Act, the estimated weighted-average rate calculated for EKU is the rate assigned to all other producers and exporters, pursuant to section 705(c)(5)(A)(i) of the Act.

Final Determination

Commerce determines that the following estimated countervailable subsidy rates exist:

Company | Subsidy rate (percent ad valorem)
EKU Fren ve Dok. San. A.S | 2.80
Akkus Dokum San.Ve Tic.Ltd.Sti | * 131.60
Buyuk Eker Bijon Sanayi Ve Ticaret | * 131.60
Genk Otomotiv San.Dis Tic.Ltd.Sti | * 131.60
All Others | 2.80
* Rate is based on AFA.

Disclosure

Commerce intends to disclose to interested parties the calculations and analysis performed in this final determination within five days of any public announcement or, if there is no public announcement, within five days of the date of the publication of this notice in the Federal Register, in accordance with 19 CFR 351.224(b).

Suspension of Liquidation

As a result of our Preliminary Determination, pursuant to sections 703(d)(1)(B) and (d)(2) of the Act, Commerce instructed U.S. Customs and Border Protection (CBP) to suspend liquidation of entries of subject merchandise, as described in the scope of the investigation section, that were entered or withdrawn from warehouse for consumption on or after December 3, 2024, the date of publication of the Preliminary Determination in the Federal Register, except for EKU because its preliminary subsidy rate was de minimis. In accordance with section 703(d) of the Act, we instructed CBP to discontinue the suspension of liquidation of all entries of subject merchandise entered or withdrawn from warehouse on, or after, April 2, 2025, but to continue the suspension of liquidation of all entries of subject merchandise between December 3, 2024, and April 1, 2025. Because the subsidy rate for EKU was de minimis, Commerce directed CBP not to suspend liquidation of entries of the merchandise from this company.

However, because the final subsidy rate for EKU is above de minimis, in accordance with section 705(c)(1)(C) of the Act, we are directing CBP to suspend liquidation of all entries of subject merchandise produced and/or exported by EKU that are entered, or withdrawn from warehouse, for consumption on or after the date of the publication of this notice in the Federal Register and to require a cash deposit for such entries of merchandise in the amount indicated above.

If the U.S. International Trade Commission (ITC) issues a final affirmative injury determination, we will issue a countervailing duty order, reinstate the suspension of liquidation under section 706(a) of the Act, and require a cash deposit of estimated countervailing duties for entries of subject merchandise in the amounts indicated above. If the ITC determines that material injury, or threat of material injury, does not exist, this proceeding will be terminated, and all estimated duties deposited or securities posted as a result of the suspension of liquidation will be refunded or canceled.

ITC Notification

In accordance with section 705(d) of the Act, we will notify the ITC of our final affirmative determination that countervailable subsidies are being provided to producers and exporters of certain brake drums from Türkiye. Because the final determination is affirmative, in accordance with section 705(b) of the Act, the ITC will make its final determination as to whether the domestic industry in the United States is materially injured, or threatened with material injury, by reason of imports of certain brake drums from Türkiye no later than 45 days after our final determination. In addition, we are making available to the ITC all non-privileged and nonproprietary information related to this investigation. We will allow the ITC access to all privileged and business proprietary information in our files, provided the ITC confirms that it will not disclose such information, either publicly or under an administrative protective order (APO), without the written consent of the Assistant Secretary for Enforcement and Compliance.

If the ITC determines that material injury or threat of material injury does not exist, this proceeding will be terminated, and all cash deposits will be refunded. If the ITC determines that such injury does exist, Commerce will issue a countervailing duty order directing CBP to assess, upon further instruction by Commerce, countervailing duties on all imports of the subject merchandise that are entered, or withdrawn from warehouse, for consumption on or after the effective date of the suspension of liquidation, as discussed above in the “Continuation of Suspension of Liquidation” section.

Administrative Protective Order

In the event that the ITC issues a final negative injury determination, this notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: June 13, 2025.
Steven Presing,
Acting Deputy Assistant Secretary for Policy and Negotiations.

Appendix I

Scope of the Investigation

The merchandise covered by this investigation is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of this investigation if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by this investigation is classifiable under Harmonized Tariff Schedule of the United States (HTSUS) subheading 8708.30.5020. The merchandise covered by this investigation may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by this investigation is dispositive.

Appendix II

List of Topics Discussed in the Issues and Decision Memorandum

I. Summary

II. Background

III. Calculation of the All-Others Rate

IV. Diversification of Türkiye's Economy

V. Subsidies Valuation Information

VI. Use of Facts Otherwise Available and Application of Adverse Inferences

VII. Analysis of Programs

VIII. Discussion of the Issues

Comment 1: Whether Commerce Used the Correct Export Sales Denominator for EKU

Comment 2: Whether Commerce Correctly Calculated the Benefit Provided to EKU Under the Rediscount Program

Comment 3: Whether Commerce's Selection of a Single Mandatory Respondent was Appropriate

Comment 4: Whether Assigning an AFA Rate to Akkus, Eker, and Genk Otomotiv is Appropriate

Comment 5: Whether Commerce's AFA Rate is Unduly Punitive and Based on Sufficient Analysis

Comment 6: Whether Commerce's All-Others Determination is Reasonable and Consistent with the SCM Agreement and WTO Obligations

IX. Recommendation

[FR Doc. 2025-11231 Filed 6-17-25; 8:45 am]

BILLING CODE 3510-DS-P